NUCLEAR REGULATORY COMMISSION

Office of Nuclear Security and Incident Response

[NRC-2008-0122]

Interim Staff Guidance: Emergency Planning for Nuclear Power Plants; Solicitation of Public Comment

AGENCY: Nuclear Regulatory Commission (NRC).

ACTION: Announcement of issuance for public comment, availability.

SUMMARY: The Office of Nuclear Security and Incident Response (NSIR) is soliciting public comment on its proposed Interim Staff Guidance (ISG) NSIR/DPR-ISG-01, “Emergency Planning for Nuclear Power Plants.” This ISG would provide guidance for addressing new emergency planning (EP) requirements for nuclear power plants based on proposed changes to EP regulations in Title 10, “Energy,” Part 50, “Domestic Licensing of Production and Utilization Facilities,” of the Code of Federal Regulations (10 CFR Part 50), specifically Section 50.47, “Emergency Plans,” and Appendix E, “Emergency Planning and Preparedness for Production and Utilization Facilities” (reference RIN 3150-AI10). The NRC staff will modify the ISG as necessary for consistency with the final EP rule as part of the overall comment resolution process for the ISG and EP rule changes. Additional guidance on topics not directly related to the EP final rule, such as integrating offsite response methodologies with onsite EP programs, is also provided in the ISG. Once the EP final rule is published and NRC staff completes the ISG, the staff will issue it for use. The NRC staff will incorporate the updated guidance information in NSIR/DPR-ISG-01 into future revisions of NUREG-0654/FEMA-REP-1, “Criteria for the Preparation and Evaluation of Radiological Emergency Response Plans and Preparedness in Support of Nuclear Power Plants,” and other EP guidance documents.

Some NRC EP regulatory requirements are being revised that warrant guidance outside the scope of the proposed ISG. The NRC staff plans to provide additional guidance for addressing proposed changes to Section 50.54(q) concerning emergency plan changes in the form of a new Regulatory Guide (RG), proposed changes to Appendix E to 10 CFR Part 50 regarding emergency action levels for hostile action events in a revision to RG 1.101, “Emergency Planning for Nuclear Power Plants,” and proposed changes to Section 50.47(b)(10) and Appendix E to 10 CFR Part 50 regarding updates to evacuation time estimates in the form of a new NUREG/CR document. The Federal Emergency Management Agency (FEMA) is addressing offsite EP guidance changes in support of the proposed EP rule and other offsite EP program issues in a new supplement to NUREG-0654/FEMA-REP-1, as well as other FEMA documents. These documents will be issued separately for public comment prior to publishing the EP final rule.

DATES: Comments must be filed no later than 75 days from the date of publication of this notice in the Federal Register. Comments received after this date will be considered, if it is practical to do so, but the NRC staff is able to ensure consideration only for comments received on or before this date.

ADDRESSES: NSIR/DPR-ISG-01, “Emergency Planning for Nuclear Power Plants,” is available for inspection and copying for a fee at the NRC Public Document Room, Public File Area O1-F21, 11555 Rockville Pike, Rockville, Maryland. Publicly available documents created or received at the NRC after November 1, 1999, are available electronically at the NRC's Electronic Reading Room at http://www.nrc.gov/reading-rm.html. From this site, the public can gain entry into the NRC's Agencywide Documents Access and Management System (ADAMS), which provides text and image files of NRC's public documents. The ADAMS Accession number for this ISG is: ML083540070. If you do not have access to ADAMS or if there are problems in accessing the documents located in ADAMS, contact the NRC Public Document Room (PDR) Reference staff at 1-800-397-4209, 301-415-4737, or by e-mail at pdr.resource@nrc.gov.

Comments will be made available to the public in their entirety; personal information, such as your name, address, telephone number, e-mail address, etc., will not be removed from your submission. You may submit comments by any one of the following methods: Federal e-Rulemaking Portal: Go to http://www.regulations.gov; search on Docket ID: NRC-2008-0122. Direct questions about NRC dockets to Carol Gallagher by telephone at 301-492-3668 or e-mail at carol.gallagher@nrc.gov. Mail comments to: Michael T. Lesar, Chief, Rulemaking and Directives Branch, Office of Administration, Mail Stop: TWB-05-B01M, U.S. Nuclear Regulatory Commission, Washington, DC 20555-0001. Cite the publication date and page number of this Federal Register notice.

FOR FURTHER INFORMATION CONTACT: Mr. Donald R. Tailleart, Division of Preparedness and Response, Office of Nuclear Security and Incident Response, U.S. Nuclear Regulatory Commission, Washington, DC 20555-0001; telephone 301-415-2966 or e-mail at don.tailleart@nrc.gov.

SUPPLEMENTARY INFORMATION: The NRC posts its issued staff guidance on the NRC external web page at http://www.nrc.gov/reading-rm/doc-collections/isg/.

The NRC staff is issuing this notice to solicit public comments on the proposed NSIR/DPR-ISG-01. After the NRC staff considers any public comments, it will make a determination regarding the proposed NSIR/DPR-ISG-01.

Dated at Rockville, Maryland, this 5th day of May 2009.
For the Nuclear Regulatory Commission.
Melvyn N. Leach,
Director, Division of Preparedness and Response, Office of Nuclear Security and Incident Response.

[FR Doc. E9-11036 Filed 5-15-09; 8:45 am]

BILLING CODE 7590-01-P